DEPARTMENT OF LABOR

Office of the Secretary

Office of the Assistant Secretary for Administration and Management; Request for Comments on the Departmental FY 2006-2011 Strategic Plan

AGENCY: Office of the Secretary, Labor.

ACTION: Request for Comments on the Draft Strategic Plan FY 2006-2011.

SUMMARY: The Department of Labor (DOL) is seeking public comment on its draft Strategic Plan for fiscal years 2006-2011.

DATES: Comments should be provided no later than August 25.

ADDRESSES: Written comments can be provided by e-mail: strategic-plan@dol.gov.

Fax: (202) 693-7954.

Mail: U.S. Department of Labor, Office of the Assistant Secretary for Administration and Management, Center for Program Planning and Results, Room S-3317, 200 Constitution Avenue, NW., Washington, DC 20210.

FOR FURTHER INFORMATION CONTACT: Richard French, (202) 693-4088.

SUPPLEMENTARY INFORMATION: The Department of Labor's Draft FY 2006-2011 Strategic Plan is provided as part of the strategic planning process under the Government Performance and Results Act (GPRA) to ensure that agency stakeholders are provided an opportunity to comment on this plan.

This document integrates the Department's many diverse missions and different program objectives into a presentation of performance goals under four overreacting strategic goals. These four strategic goals are A Prepared Workforce; A Competitive Workforce; Safe and Secure Workplaces; and Strengthened Economic Protections. The strategic planning process is an opportunity for the Department to further refine and strengthen the strategic goal structure currently in place. For comparison purposes, the current DOL Strategic Plan FY 2003-2008 can be viewed at http://www.dol.gov/_sec/stratplan.

The Department has made significant progress in its strategic and performance planing efforts. As we build on this progress we look forward to receiving your comments by August 25. The text of the draft strategic plan is available in a “pdf” downloadable format and “html” through the Department of Labor Web site: http://www.dol.gov/_sec/stratplan-draft.

For those who may not have Internet access, a hard copy can be requested from the contact point, Richard French, 202-693-4088.

Dated: August 1, 2006.
Patrick Pizzella,
Assistant Secretary for Administration and Management.

[FR Doc. 06-6685 Filed 8-4-06; 8:45 am]

BILLING CODE 4510-23-M